DEPARTMENT OF THE INTERIOR

Bureau of Land Management

[CO-600-00-1430-ET-241A]

Notice of Intent To Amend the White River, Glenwood Springs, and Grand Junction Resource Management Plans To Revoke Oil Shale Withdrawals on Public Lands

AGENCY: Bureau of Land Management, Interior.

ACTION: Notice.

SUMMARY: Notice is hereby given that the Bureau of Land Management (BLM) is proposing to prepare an Environmental Assessment and amend three Resource Management Plans (RMPs) to revoke withdrawals placed on BLM administered lands for the purpose of protecting the oil shale resource. The three RMPs are the White River RMP, Glenwood Springs RMP, and Grand Junction RMP; all in Colorado. Section 204 of the Federal Land Policy and Management Act of 1976 (FLPMA), requires that BLM continually review existing withdrawals to determine if they are still needed for their original purpose. This proposed revocation only pertains to oil shale lands withdrawn under Executive Order 5327 dated April 15, 1930, as amended, and Public Land Order 4522 dated September 13, 1968, as amended, and involves approximately 600,000 acres in Colorado.

These oil shale withdrawals are no longer needed because existing regulations, policies and land use decisions provide adequate protection and conservation of oil shale resources.

The oil shale withdrawals proposed for revocation are within the jurisdictional boundaries of the White River BLM Field Office, Glenwood Springs BLM Field Office, and Grand Junction BLM Field Office, and are located in the following townships.

T2N, R98W; T2N, R99W; T2N, R100W; T1N, R95W; T1N, R96W; T1N, R97W; T1N, R98W; T1N, R99W; T1N, R100W; T1S, R94W; T1S, R95W; T1S, R96W; T1S, R97W; T1S, R98W; T1S, R99W; T1S, R100W; T2S, R94W; T2S, R95W; T2S, R96W; T2S, R97W; T2S, R98W; T2S, R99W; T2S, R100W; T3S, R94W; T3S, R95W; T3S, R96W; T3S, R97W; T3S, R98W, T3S, R99W; T3S, R100W; T4S, R94W; T4S, R95W; T4S, R96W; T4S, R97W; T4S, R98W; T4S, R99W; T4S, R100W; T4S, R101W; T5S, R93W; T5S, R94W; T5S, R95W; T5S, R96W; T5S, R97W; T5S, R98W; T5S, R99W; T5S, R100W; T5S, R101W; T6S, R94W; T6S, R95W; T6S, R96W; T6S, R97W; T6S, R98W; T6S, R99W; T6S, R100W; T6S, R101W; T7S, R96W; T7S, R97W; T7S, R98W; T7S, R99W; T7S, R100W; T7S, R101W; T8S, R99W; T8S, R100W.

The public is invited to comment on this proposal and to contact the BLM should they desire further information. A 30 day period for receiving comments begins with publication of this notice in the Federal Register. Comments received by the public as a result of this notice and news releases in local media will be considered in developing the Environmental Assessment.

ADDRESSES: Address all comments concerning this notice to Larry Porter, Bureau of Land Management, 2815 H. Road, Grand Junction, CO 81506. Electronic mail can be sent to: Larry_Porter@co.blm.gov.

FOR FURTHER INFORMATION CONTACT: Larry Porter at (970) 244-3012.

SUPPLEMENTARY INFORMATION: This withdrawal revocation proposal does not apply to the Naval Oil Shale Reserve #1 and #3 lands that were recently transferred from the U.S. Department of Energy to the BLM. Management decisions for these lands will be made through a separate planning process.

There are several public land orders and executive orders which relate to the withdrawal of oil shale land. Some of the orders identify how the withdrawals will be administered and their relationship to development of other minerals. This proposed revocation only pertains to oil shale values in lands withdrawn under Executive Order 5327 dated April 15, 1930, as amended, and Public Land Order 4522 dated September 13, 1968, as amended. Oil Shale and associated minerals have been classified as leasable, and as such they are managed with well defined procedures. The oil shale values in these withdrawn lands are adequately protected and administered through existing BLM regulations, planning decisions, and policy. The withdrawals are no longer needed for their original purpose and intent, and should be revoked in their entirety.

Dated: November 22, 2000.
Richard M. Arcand,
Assistant Manager, Northwest Center Office.

[FR Doc. 00-30443 Filed 11-28-00; 8:45 am]

BILLING CODE 4310-JB-P